DEPARTMENT OF ENERGY

Federal Energy Regulatory Commission

[Docket No. EG03-55-000, et al.]

NM Mid-Valley Genco LLC, et al.; Electric Rate and Corporate Filings

April 9, 2003.

The following filings have been made with the Commission. The filings are listed in ascending order within each docket classification.

1. NM Mid-Valley Genco LLC

[Docket No. EG03-55-000]

Take notice that on April 4, 2003, NM Mid-Valley Genco LLC (Applicant), with its principal office at 3650 IDS Center, 80 So. 8th Street, Minneapolis, MN 55402-2217, filed with the Federal Energy Regulatory Commission (Commission) an application for determination of exempt wholesale generator status pursuant to Section 32 of the Public Utility Holding Company Act of 1935 and part 365 of the Commission's regulations.

Applicant states that it will own and operate the approximately 2.52 megawatt (gross) Mid-Valley Landfill Gas Project, located in the City of Rialto, San Bernardino, California, with the possibility of expansion up to an additional 3.78 megawatts, and will sell electric energy exclusively at wholesale.

Comment Date: April 30, 2003.

2. NM Colton Genco LLC

[Docket No. EG03-56-000]

Take notice that on April 4, 2003, NM Colton Genco LLC (Applicant), with its principal office at 3650 IDS Center, 80 So. 8th Street, Minneapolis, MN 55402-2217, filed with the Federal Energy Regulatory Commission (Commission) an application for determination of exempt wholesale generator status pursuant to Section 32 of the Public Utility Holding Company Act of 1935 and part 365 of the Commission's regulations.

Applicant states that it will own and operate the approximately 1.26 megawatt (gross) Colton Landfill Gas Project, located in the City of Colton, San Bernardino, California, with the possibility of expansion up to an additional 1.26 megawatts, and will sell electric energy exclusively at wholesale.

Comment Date: April 30, 2003.

3. NM Milliken Genco LLC

[Docket No. EG03-57-000]

Take notice that on April 4, 2003, NM Milliken Genco LLC (Applicant), with its principal office at 3650 IDS Center, 80 So. 8th Street, Minneapolis, MN 55402-2217, filed with the Federal Energy Regulatory Commission (Commission) an application for determination of exempt wholesale generator status pursuant to Section 32 of the Public Utility Holding Company Act of 1935 and part 365 of the Commission's regulations.

Applicant states that it will own and operate the approximately 2.52 megawatt (gross) Milliken Landfill Gas Project, located in the City of Ontario, San Bernardino, California, with the possibility of expansion up to an additional 1.26 megawatts, and will sell electric energy exclusively at wholesale.

Comment Date: April 30, 2003.

4. New York Independent System Operator, Inc.

[Docket No. ER03-18-002]

Take notice that on April 4, 2003, the New York Independent System Operator, Inc., (NYISO) filed corrected tariff revisions to its Market Administration and Control Area Services Tariff (Services Tariff).

NYISO states that copies of this filing have been served on all parties listed on the official service list. The NYISO states that it has also served a copy of this filing to all parties that have executed Service Agreements under the NYISO's Open-Access Transmission Tariff or Services Tariff, the New York State Public Service Commission, and to the electric utility regulatory agencies in New Jersey and Pennsylvania.

Comment Date: April 25, 2003.

5. Carolina Power & Light Company

[Docket Nos. ER03-414-001 and ER03-415-001]

Take notice that on April 4, 2003, Carolina Power & Light Company d/b/a Progress Energy Carolinas, Inc., tendered for filing revised Facility Interconnection and Operating Agreements with Cogentrix of North Carolina, Inc., in accordance with Commission Order dated March 7, 2003.

Progress Energy Carolinas, Inc., states that a copy of the filing was served upon the North Carolina Utilities Commission and the South Carolina Public Service Commission.

Comment Date: April 25, 2003.

6. Entergy Services, Inc. and Entergy Power, Inc.

[Docket No. ER03-682-001]

Take notice that on April 2, 2003, Entergy Services, Inc. (ESI), on behalf of Entergy New Orleans, Inc. (ENO), and Entergy Power, Inc. (EPI) filed an amendment to its March 31, 2003 filing under section 205 of the Federal Power Act for approval of a power purchase agreement between the ENO and EPI as well as two additional purchase power agreements, between ENO and, respectively, Entergy Gulf States, Inc. and Entergy Arkansas, Inc

ESI states that copies of this filing were served on the affected state utility commissions.

Comment Date: April 23, 2003.

7. Yankee Atomic Electric Company

[Docket No. ER03-704-000]

Take notice that on April 4, 2003, Yankee Atomic Electric Company (Yankee) submitted for filing revisions to Yankee's wholesale power contract, Yankee Atomic Electric Company, Rate Schedule FERC No. 3 (the Power Contract) to resume collections to recover the costs of completing the decommissioning of Yankee's retired nuclear generating plant. Yankee states that the schedule of resumed decommissioning collections is based on a new decommissioning cost estimate (the 2003 Estimate). Yankee also states that the purpose of this filing is to reinitiate decommissioning cost collections under the Power Contract in order to fund the decommissioning of Yankee's Rowe Nuclear Generating Plant located in Rowe, Massachusetts based on the 2003 Estimate.

Yankee states that copies of this filing have been served on Yankee's wholesale customers and regulators in the states of Massachusetts, Connecticut, Rhode Island, Vermont, Maine and New Hampshire.

Comment Date: April 25, 2003.

8. Georgia Power Company

[Docket No. ER03-705-000]

Take notice that on April 4, 2003, Georgia Power Company filed a Notice of Cancellation notifying the Commission that the Interim Agreement for Gulf Power Company Scherer Unit 3 Transmission Facilities Service Payment to Georgia Power Company (designated Georgia Rate Schedule 824), dated August 31, 1989, and filed with the Federal Energy Regulatory Commission by Georgia Power Company, terminated by its own terms on June 1, 1995.

Comment Date: April 25, 2003.

9. PECO Energy Company

[Docket No. ER03-706-000]

Take notice that on April 4, 2003, PECO Energy Company (PECO) submitted for filing a Revised Title Page and First Revised Sheet Nos. 38, 40, 41, 42, 44, and 45 to the Construction Agreement between PECO and Old Dominion Electric Cooperative (Old Dominion) designated as Service Agreement No. 683 under the PJM Open Access Transmission Tariff. PECO states that the pages were revised pursuant to PJM's modifications to the scope of work required to interconnect the Rock Springs Electric Generating Facility located in Cecil County, Maryland.

PECO states that copies of this filing were served on Old Dominion and PJM Interconnection, L.L.C.

Comment Date: April 25, 2003.

10. Cleco Power LLC

[Docket No. ER03-707-000]

Take notice that on April 4, 2003, Cleco Power LLC, (Cleco Power) tendered for filing Fifth Revised Sheet Nos. 77 and 78, an Attachment E, from Cleco Power's open access transmission tariff, titled “Index of Point-to-Point Transmission Service Customers”, to include TransAlta Energy Marketing (U.S) Inc., as a short-term firm and non-firm transmission customer. Cleco Power states that Cleco Power and TransAlta Energy Marketing (U.S) Inc., have executed agreements under which Cleco Power will provide short-term firm point-to-point transmission service and non-firm point-to-point transmission service to TransAlta Energy Marketing (U.S) Inc., under its Open Access Transmission Tariff.

Comment Date: April 25, 2003.

11. Pacific Gas and Electric Company

[Docket No. ER03-708-000]

Take notice that on April 4, 2003, Pacific Gas and Electric Company (PG&E) tendered for filing revisions to its Reliability Must-Run Service Agreements with the California Independent System Operator Corporation (ISO) for Helms Power Plant, PG&E First Revised Rate Schedule FERC No. 207, Humboldt Power Plant, PG&E First Revised Rate Schedule FERC No. 208, Hunters Point Power Plant, PG&E First Revised Rate Schedule FERC No. 209, and San Joaquin Power Plant, PG&E First Revised Rate Schedule FERC No. 211. PG&E states that this filing revises portions of the Rate Schedules to adjust Table B-2, Hourly Capital Item Charges, and Table B-4, Hourly Surcharge Penalty Rate, of Schedule B, “Monthly Option Payment” to recognize capital items placed in service pursuant to the terms of the RMR Agreements.

PG&E states that copies of this filing have been served upon the ISO, the California Electricity Oversight Board, and the California Public Utilities Commission.

Comment Date: April 25, 2003.

12. Louisiana Generating LLC

[Docket No. ER03-709-000]

Take notice that on April 4, 2003, Louisiana Generating LLC filed under section 205 of the Federal Power Act, and Commission Order No. 614, a request that the Commission accept for filing a revised market-based rate tariff; and grant any waivers necessary to make the revised tariff sheets effective as soon as possible.

Comment Date: April 25, 2003.

13. PJM Interconnection, L.L.C.

[Docket No. ER03-710-000]

Take notice that on April 4, 2003, PJM Interconnection, L.L.C. (PJM), submitted for filing an interconnection service agreement (ISA) and a construction service agreement (CSA) between PJM and Jersey-Atlantic Wind, LLC and Atlantic City Electric Company d/b/a Conectiv Power Delivery.

PJM requests a waiver of the Commission's 60-day notice requirement to permit a March 6, 2003 effective date for the ISA and CSA. PJM states that copies of this filing were served upon the parties to the agreements and the state regulatory commissions within the PJM region.

Comment Date: April 25, 2003.

14. Alliant Energy Corporate Services Inc.

[Docket No. ER03-712-000]

Take notice that on April 4, 2003, Alliant Energy Corporate Services Inc. (ALTM) tendered for filing a signed Service Agreement under ALTM's Market Based Wholesale Power Sales Tariff (MR-1) between itself and City of Bellevue, Iowa. ALTM respectfully requests a waiver of the Commission's notice requirements, and an effective date of March 31, 2003.

Comment Date: April 25, 2003.

15. Oregon Trail Electric Consumers Cooperative, Inc.

[Docket No. ES03-30-000]

Take notice that on April 2, 2003, Oregon Trail Electric Consumers Cooperative, Inc. (Oregon Trail) submitted an application pursuant to section 204 of the Federal Power Act seeking authorization to (1) make long-term borrowings under a loan agreement with the National Rural Utilities Cooperative Finance Corporation (CFC) in an amount not to exceed $6 million and (2) make no more than $5 million of short-term borrowings under a line of credit agreement with CFC.

Oregon Trail also requests a waiver from the Commission's competitive bidding and negotiated placement requirements at 18 CFR 34.2.

Comment Date: April 30, 2003.

16. Florida Power Corporation, dba Progress Energy Florida, Inc.

[Docket No. SC03-1-000]

Take notice that on April 2, 2003, Florida Power Corporation, dba Progress Energy Florida, Inc. (FPC), tendered for filing pursuant to Section 205 of the Federal Power Act an amendment to its open-access transmission tariff. FPC states that the purpose of the amendment is to recover stranded costs as a transmission surcharge if and when the City of Casselberry, Florida “municipalizes” and becomes a transmission customer of FPC. FPC further states that the customers within the City of Casselberry are currently served at retail by FPC. FPC requests an effective date for the tariff amendment upon commencement of transmission service by Casselberry. FPC requests waiver of the Commission's notice regulations for that purpose. FPC states that the basis for the stranded cost calculation is explained in the testimony and transmittal letter accompanying the tariff amendment.

The proposed tariff amendment affects only the City of Casselberry and would have no impact on any other customer under FPC's open-access transmission tariff. FPC has served a copy of the tariff amendment filing on the City of Casselberry and on the Florida Public Service Commission.

Comment Date: April 23, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-9236 Filed 4-15-03; 8:45 am]

BILLING CODE 6717-01-P